NUCLEAR REGULATORY COMMISSION

Extension of Public Comment Period: Louisiana Energy Services National Enrichment Facility

AGENCY: United States Nuclear Regulatory Commission (NRC).

ACTION: Extension of public comment period.

SUMMARY: The NRC is extending the public comment period for the Draft Environmental Impact Statement (DEIS) for the Proposed National Enrichment Facility in Lea County, New Mexico (NUREG-1790) that was to end on November 6, 2004. The original notice of availability of the DEIS appeared in the Federal Register on September 17, 2004 (69 FR 56104).

On October 25, 2004, the NRC initiated an additional security review of publicly available documents to ensure that potentially sensitive information is removed from the ADAMS database accessible through the NRC's Web site. Interested members of the public should check the NRC's Web pages for updates on the availability of documents through the ADAMS system. This extension of the public comment period is appropriate to allow members of the public adequate opportunity to obtain access to relevant documents in ADAMS in order to comment on the DEIS. Therefore, the public comment period is being extended until December 18, 2004.

Members of the public are invited and encouraged to submit comments to the Chief, Rules Review and Directives Branch, Mail Stop T6-D59, U.S. Nuclear Regulatory Commission, Washington, DC 20555-0001. Please note Docket No. 70-3103 when submitting comments. Written comments submitted by mail should be postmarked by December 18, 2004, to ensure consideration. Comments mailed after that date will be considered to the extent practical.

Comments will also be accepted by e-mail to nrcrep@nrc.gov, or by facsimile to 301-415-5397, Attention: Anna Bradford.

FOR FURTHER INFORMATION CONTACT: For general or technical information associated with the license review of the National Enrichment Facility, please contact Timothy Johnson at (301) 415-7299. For general information on the NRC environmental review process, please contact Anna Bradford at (301) 415-5228.

Signed in Rockville, MD, this 2nd day of November, 2004.
For the Nuclear Regulatory Commission.
B. Jennifer Davis,
Chief, Environmental and Low-Level Waste Section, Division of Waste Management and Environmental Protection, Office of Nuclear Material Safety and Safeguards.

[FR Doc. 04-24889 Filed 11-8-04; 8:45 am]

BILLING CODE 7590-01-P